COMMISSION ON CIVIL RIGHTS

Agenda and Notice of Public Meetings of the Connecticut Advisory Committee

Notice is hereby given, pursuant to the provisions of the rules and regulations of the U.S. Commission on Civil Rights (Commission), and the Federal Advisory Committee Act (FACA), that a briefing meeting and a planning meeting of the Connecticut Advisory Committee to the Commission will convene at 11 a.m. on Monday, September, 22, 2008, in Room 1 C located in the Legislative Building, 210 Capitol Ave., in Hartford, Connecticut. The purpose of the briefing is to hear from local advocates on topical civil rights issues. After the briefing the Committee will plan future activities.

Members of the public are entitled to submit written comments; the comments must be received in the regional office by October 22, 2008. The address is Eastern Regional Office, 624 9th St., NW., Washington, DC 20425. Persons wishing to e-mail their comments, or who desire additional information should contact Alfreda Greene, Secretary, at 202-376-7533 or by e-mail to: agreene@usccr.gov.

Hearing-impaired persons who will attend the meetings and require the services of a sign language interpreter should contact the Regional Office at least ten (10) working days before the scheduled date of the meetings.

Records generated from these meetings may be inspected and reproduced at the Eastern Regional Office, as they become available, both before and after the meetings. Persons interested in the work of this advisory committee are advised to go to the Commission's Web site, http://www.usccr.gov, or to contact the Eastern Regional Office at the above e-mail or street address.

The meetings will be conducted pursuant to the provisions of the rules and regulations of the Commission and FACA.

Dated in Washington, DC, September 3, 2008.
Christopher Byrnes,
Chief, Regional Programs Coordination Unit.

[FR Doc. E8-20744 Filed 9-5-08; 8:45 am]

BILLING CODE 6335-01-P